INTERNATIONAL TRADE COMMISSION

[Investigation No. 337-TA-1262]

Certain Skin Rejuvenation Resurfacing Devices, Components Thereof, and Products Containing the Same; Commission Determination Not To Review an Initial Determination Granting Complainants' Unopposed Motion To Terminate the Investigation in Its Entirety Based on Settlement; Termination of the Investigation

AGENCY: International Trade Commission.

ACTION: Notice.

SUMMARY: Notice is hereby given that the U.S. International Trade Commission has determined not to review an initial determination (“ID”) (Order No. 12) of the presiding administrative law judge (“ALJ”) granting complainants' unopposed motion to terminate the investigation in its entirety based on a settlement agreement. The investigation is terminated.

FOR FURTHER INFORMATION CONTACT: Clint Gerdine, Esq., Office of the General Counsel, U.S. International Trade Commission, 500 E Street SW, Washington, DC 20436, telephone (202) 708-2310. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On April 21, 2021, the Commission instituted this investigation based on a complaint filed by InMode Ltd. of Yokneam, Israel and Invasix Inc. d/b/a InMode of Lake Forest, California (collectively, “InMode”). 86 FR 20712-13 (Apr. 21, 2021). The complaint, as supplemented, alleges violations of section 337 of the Tariff Act of 1930, as amended (19 U.S.C. 1337), based on the importation into the United States, the sale for importation, or the sale within the United States after importation of certain skin rejuvenation resurfacing devices, components thereof, and products containing the same by reason of infringement of certain claims of U.S. Patent No. 10,799,285. Id. The complaint further alleges that a domestic industry exists. Id. The notice of investigation (“NOI”) named ILOODA Co., Ltd. (“ILOODA”) of Suwon, Republic of Korea and Cutera, Inc. (“Cutera”) of Brisbane, California (collectively, “Respondents”) as respondents. Id. The Office of Unfair Import Investigations is not participating in the investigation. Id.

On September 22, 2021, the Commission determined to review an ID (Order No. 8) of the ALJ granting InMode's motion to amend the complaint and NOI in the above-captioned investigation to add a claim asserting a violation of 19 U.S.C. 1337(a)(1)(A) against Cutera. On review, the Commission determined to vacate the ID and to remand the issue to the ALJ for further proceedings. On remand, the ALJ denied InMode's motion on September 23, 2021.

On November 22, 2021, InMode filed an unopposed motion to terminate the investigation as to Respondents based on a settlement agreement between InMode and Respondents.

On December 2, 2021, the ALJ issued the subject ID (Order No. 12) granting InMode's unopposed motion to terminate the investigation as to Respondents based on settlement. The ID finds that the motion satisfies the requirements of Commission Rule 210.21(b) (19 CFR 210.21(b)) and that terminating the investigation as to Respondents is not contrary to the public interest. No party petitioned for review of the ID.

The Commission has determined not to review the subject ID. The investigation is terminated.

The Commission vote for this determination took place on December 20, 2021.

The authority for the Commission's determination is contained in section 337 of the Tariff Act of 1930, as amended, 19 U.S.C. 1337, and in part 210 of the Commission's Rules of Practice and Procedure, 19 CFR part 210.

By order of the Commission.
Issued: December 20, 2021.
Lisa Barton,
Secretary to the Commission.

[FR Doc. 2021-27908 Filed 12-22-21; 8:45 am]

BILLING CODE 7020-02-P